DEPARTMENT OF TRANSPORTATION

Federal Aviation Administration

14 CFR Part 39

[Docket No. FAA-2023-1217; Project Identifier MCAI-2023-00477-T; Amendment 39-22551; AD 2023-19-01]

RIN 2120-AA64

Airworthiness Directives; Airbus SAS Airplanes

AGENCY: Federal Aviation Administration (FAA), DOT.

ACTION: Final rule.

SUMMARY: The FAA is adopting a new airworthiness directive (AD) for all Airbus SAS Model A330-200 series; A330-200 Freighter series; A330-300 series; A330-800 series; A330-900 series; A340-200 series; and A340-300 series airplanes. This AD was prompted by reports of cracks found in the scroll housing assembly of Honeywell GTCP331-350 auxiliary power units (APUs). This AD requires replacing each affected APU or re-identifying certain APU scroll housing assemblies, and prohibits the installation of affected parts under certain conditions, as specified in a European Union Aviation Safety Agency (EASA) AD, which is incorporated by reference. The FAA is issuing this AD to address the unsafe condition on these products.

DATES: This AD is effective October 30, 2023.

The Director of the Federal Register approved the incorporation by reference of certain publications listed in this AD as of October 30, 2023.

ADDRESSES:

AD Docket: You may examine the AD docket at regulations.gov under Docket No. FAA-2023-1217; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• For Honeywell service information incorporated by reference in this AD, contact Honeywell International, Inc., 111 South 34th Street, Phoenix, AZ 85034; phone: (800) 601-3099; fax: (602) 365-5577; website: myaerospace.honeywell.com/wps/portal.

• You may view this material at the FAA, Airworthiness Products Section, Operational Safety Branch, 2200 South 216th St., Des Moines, WA. For information on the availability of this material at the FAA, call 206-231-3195. It is also available in the AD docket at regulations.gov under Docket No. FAA-2023-1217.

FOR FURTHER INFORMATION CONTACT: Timothy Dowling, Aviation Safety Engineer, FAA, 1600 Stewart Avenue, Suite 410, Westbury, NY 11590; telephone 206-231-3667; email Timothy.P.Dowling@faa.gov.

SUPPLEMENTARY INFORMATION:

Background

The FAA issued a notice of proposed rulemaking (NPRM) to amend 14 CFR part 39 by adding an AD that would apply to all Airbus SAS Model 330-201, -202, -203, -223, -223F, -243, -243F, -301, -302, -303, -321, -322, -323, -341, -342, -343, -841, -941, and -743L airplanes, and Model A340-211, -212, -213, -311, -312, and -313 airplanes. Model A330-743L airplanes are not certificated by the FAA and are not included on the U.S. type certificate data sheet; this AD therefore does not include those airplanes in the applicability. The NPRM published in the Federal Register on June 20, 2023 (88 FR 39796). The NPRM was prompted by AD 2023-0056, dated March 16, 2023, issued by EASA, which is the Technical Agent for the Member States of the European Union (EASA AD 2023-0056) (also referred to as the MCAI). The MCAI states that cracks were found in the scroll housing assembly of Honeywell GTCP331-350 APUs.

In the NPRM, the FAA proposed to require replacing each affected APU or re-identifying certain APU scroll housing assemblies, as specified in EASA AD 2023-0056. The NPRM also proposed to prohibit the installation of affected parts under certain conditions. The FAA is issuing this AD to address cracks in the scroll housing assembly of Honeywell GTCP331-350 APUs. The unsafe condition, if not addressed, could result in hot air leakage and consequent damage to the APU compartment and loss of the APU doors, possibly resulting in damage to the airplane.

Since EASA AD 2023-0056 was issued and the FAA NPRM was published, EASA determined that a letter, which is part of an APU's serial number, is used only to identify the manufacturing facility of the APU and has no meaning in relation to the EASA AD 2023-0056 required actions. Therefore, EASA issued AD 2023-0158, dated August 2, 2023 (EASA AD 2023-0158), which supersedes EASA AD 2023-0056 but retains the requirements of EASA AD 2023-0056. EASA AD 2023-0158 only revises the definition of “affected APU” to disregard any letter included in the APU serial number.

You may examine the MCAI in the AD docket at regulations.gov under Docket No. FAA-2023-1217.

Discussion of Final Airworthiness Directive

Comments

The FAA received a comment from Air Line Pilots Association, International (ALPA) who supported the NPRM without change.

Additional Changes Made to This AD

Since the NPRM was published, EASA AD 2023-0056 was superseded by EASA AD 2023-0158. The FAA has updated this final rule accordingly by replacing EASA AD 2023-0056 with EASA AD 2023-0158 in all affected paragraphs.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA AD 2023-0158 specifies procedures for replacing each affected APU or re-identifying certain APU scroll housing assemblies (those having part number (P/N) 5053-181-001-501 or P/N 0331207990 and “SR-1” next to the part number marking). EASA AD 2023-0158 also prohibits the installation of affected parts under certain conditions.

Honeywell Service Bulletin 5053-181-49-7895, dated July 21, 2006, specifies procedures for, among other actions, re-identifying affected APU scroll housing assemblies. While Honeywell distributes this document, Aeronamic develops the technical content.

This material is reasonably available because the interested parties have access to it through their normal course of business or by the means identified in the ADDRESSES section.

Costs of Compliance

The FAA estimates that this AD affects 128 airplanes of U.S. registry. The FAA estimates the following costs to comply with this AD:

Estimated Costs For Required Actions
Labor cost | Parts cost | Cost per product | Cost on U.S. operators
Up to 18 work-hours × $85 per hour = Up to $1,530 (replace APU) | $1,612,820 | Up to $1,614,350 | (*)
Up to 20 work-hours × $85 per hour = Up to $1,700 (re-identify APU scroll housing assembly) | 3,141 | Up to $4,841 | (*)
* Operators have the option to replace the APU or re-identify the APU scroll housing assembly. The FAA has no definitive data on which to provide a total cost estimate for U.S. operators for the required actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-19-01 Airbus SAS: Amendment 39-22551; Docket No. FAA-2023-1217; Project Identifier MCAI-2023-00477-T.

(a) Effective Date

This airworthiness directive (AD) is effective October 30, 2023.

(b) Affected ADs

None.

(c) Applicability

This AD applies to all Airbus SAS airplanes specified in paragraphs (c)(1) through (7) of this AD, certificated in any category.

(1) Model A330-201, -202, -203, -223, and -243 airplanes.

(2) Model A330-223F and -243F airplanes.

(3) Model A330-301, -302, -303, -321, -322, -323, -341, -342, and -343 airplanes.

(4) Model A330-841 airplanes.

(5) Model A330-941 airplanes.

(6) Model A340-211, -212, and -213 airplanes.

(7) Model A340-311, -312, and -313 airplanes.

(d) Subject

Air Transport Association (ATA) of America Code 49, Airborne auxiliary power.

(e) Unsafe Condition

This AD was prompted by reports of cracks found in the scroll housing assembly of Honeywell GTCP331-350 auxiliary power units (APUs). The FAA is issuing this AD to address such cracks. The unsafe condition, if not addressed, could result in hot air leakage and consequent damage to the APU compartment and loss of the APU doors, possibly resulting in damage to the airplane.

(f) Compliance

Comply with this AD within the compliance times specified, unless already done.

(g) Requirements

Except as specified in paragraph (h) of this AD: Comply with all required actions and compliance times specified in, and in accordance with, European Union Aviation Safety Agency (EASA) AD 2023-0158, dated August 2, 2023 (EASA AD 2023-0158).

(h) Exceptions to EASA AD 2023-0158

(1) Where EASA AD 2023-0158 refers to its effective date, this AD requires using the effective date of this AD.

(2) Where EASA AD 2023-0158 refers to the effective date of EASA AD 2023-0056, this AD requires using the effective date of this AD.

(3) This AD does not adopt the “Remarks” section of EASA AD 2023-0158.

(4) Where EASA AD 2023-0158 specifies to re-identify an SR-1 affected part “in accordance with the instructions of the SB,” for this AD, operators must use Honeywell Service Bulletin 5053-181-49-7895, dated July 21, 2006.

Note 1 to paragraph (h)(4): Honeywell distributes this document; Aeronamic develops the technical content.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Timothy Dowling, Aviation Safety Engineer, FAA, 1600 Stewart Avenue, Suite 410, Westbury, NY 11590; telephone 206-231-3667; email Timothy.P.Dowling@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2023-0158, dated August 2, 2023.

(ii) Honeywell Service Bulletin 5053-181-49-7895, dated July 21, 2006.

(3) For EASA AD 2023-0158, contact EASA, Konrad-Adenauer-Ufer 3, 50668 Cologne, Germany; telephone +49 221 8999 000; email ADs@easa.europa.eu; website easa.europa.eu. You may find this EASA AD on the EASA website at ad.easa.europa.eu.

(4) For Honeywell service information incorporated by reference in this AD, contact Honeywell International, Inc., 111 South 34th Street, Phoenix, AZ 85034; phone: (800) 601-3099; fax: (602) 365-5577; website: myaerospace.honeywell.com/wps/portal.

(5) You may view this material at the FAA, Airworthiness Products Section, Operational Safety Branch, 2200 South 216th St., Des Moines, WA. For information on the availability of this material at the FAA, call 206-231-3195.

(6) You may view this material that is incorporated by reference at the National Archives and Records Administration (NARA). For information on the availability of this material at NARA, email fr.inspection@nara.gov, or go to: www.archives.gov/federal-register/cfr/ibr-locations.html.

Issued on September 18, 2023.
Victor Wicklund,
Deputy Director, Compliance & Airworthiness Division, Aircraft Certification Service.

[FR Doc. 2023-20646 Filed 9-22-23; 8:45 am]

BILLING CODE 4910-13-P